DEPARTMENT OF THE INTERIOR

National Park Service

National Register of Historic Places; Notification of Pending Nominations and Related Actions

Nominations for the following properties being considered for listing or related actions in the National Register were received by the National Park Service before October 4, 2008. Pursuant to section 60.13 of 36 CFR Part 60 written comments concerning the significance of these properties under the National Register criteria for evaluation may be forwarded by United States Postal Service to the National Register of Historic Places, National Park Service, 1849 C St., NW., 2280, Washington, DC 20240; by all other carriers, National Register of Historic Places, National Park Service,1201 Eye St., NW., 8th floor, Washington, DC 20005; or by fax, 202-371-6447. Written or faxed comments should be submitted by November 4, 2008.

J. Paul Loether,
Chief, National Register of Historic Places/National Historic Landmarks Program.

ARKANSAS

Cross County

New Hope School, 3762 Hwy. 284, Wynne, 08001037.

Pulaski County

East End Methodist Episcopal Church, 2401 E. Washington Ave., North Little Rock, 08001038.

Yell County

Dardanelle Commercial Historic District, Roughly bounded by Front, Oak, 2nd and Pine Sts., Dardanelle, 08001039.

FLORIDA

Martin County

Cypress Lodge, 18681 SW. Conners Hwy., Port Mayaca, 08001040.

Miami-Dade County

Normandy Isles Historic District (North Beach Community (1919-1963), MPS) Roughly by Normandy Shores Golf Course, Indian Creek, Biscayne Bay, Rue Versailles, 71st., Rue Notre Dame, Miami Beach, 08001041.

IOWA

Fayette County

Hobson Block (Iowa's Main Street Commercial Architecture MPS), 110-114 S. Vine St., West Union, 08001042.

Hancock County

Avery Theater, The, 495 State St., Garner, 08001043.

MARYLAND

Worcester County

Makemie Memorial Presbyterian Church, 103 Market St., Snow Hill, 08001044.

MISSISSIPPI

Leflore County

Greenwood Underpass, Main St. between Jackson St. and W. Taft St., Greenwood, 08001045.

Madison County

Young House, 3463 N. Liberty St., Canton, 08001046.

NEW YORK

Greene County

Tannersville Main Street Historic District, 5898-6144 Main St., 10 Spring St., Tannersville, 08001047.

New York County

General Society of Mechanics and Tradesmen, 20 W. 44th St., New York, 08001048.

TENNESSEE

Bledsoe County

Bledsoe County Jail, 128 Frazier St., Pikeville, 08001049.

VIRGINIA

Charlotte County

Keysville Railroad Station, Railroad Ave., Keysville, 08001050.

Fauquier County

Cromwell's Run Rural Historic District (Boundary Increase), Bounded by Fauquier County line on the N., existing Cromwell's Run Rural Historic District on the E., Atoka, 08001051.

Fredericksburg Independent City

Rowe House, 801 Hanover St., Fredericksburg, 08001052.

Galax Independent City

Galax Commercial Historic District (Boundary Increase), 107 West Oldtown St., Galax, 08001053.

Lynchburg Independent City

Kemper Street Industrial Historic District, 1300-1500 (odd) Kemper St., 1200-1300 (even) Campbell Ave., Lynchburg, 08001054.

Pittsylvania County

Seven Springs Farm, 224 Meadow View Ct., Danville, 08001056.

Prince William County

Camp French (Campaigns for the Control of Navigation on the Lower Potomac River, 1861-1862, Virginia, Maryland, and DC, MPS), Address Restricted, Marine Corps Base, Quantico, 08001055.

Rising Hill Camp (Campaigns for the Control of Navigation on the Lower Potomac River, 1861-1862, Virginia, Maryland, and DC, MPS), Address Restricted, Marine Corps Base, Quantico, 08001057.

Southampton County

Neaton-Powell House, 32142 South Main St., Boykins, 08001058.

Stafford County

Tennessee Camp (Campaigns for the Control of Navigation on the Lower Potomac River, 1861-1862, Virginia, Maryland, and DC, MPS), Address Restricted, Marine Corps Base, Quantico, 08001059.

WISCONSIN

Wood County

Roddis, Hamilton and Catherine, House, 1108 E. 4th St., Marshfield, 08001060.

WYOMING

Weston County

Newcastle Commercial District, Bounded by Burlington Northern Santa-Fe Railroad tracks and West Main St., Newcastle, 08001061.

Toomey's Mills, 500 W. Main St., Newcastle, 08001062.

Request for removal has been made for the following resources:

MISSISSIPPI

Harrison County

Bailey House, 1333 E. Beach Blvd., Biloxi, 84002160.

Biloxi's Tivoli Hotel, 863 E. Beach Dr., Biloxi, 84002167.

Church of the Redeemer, Bellman St., Biloxi, 84002177.

Hermann House, 523 E. Beach Blvd., Biloxi, 84002169.

Randall's Tavern, 919 Beach Blvd., Pascagoula, 91001807.

[FR Doc. E8-24828 Filed 10-17-08; 8:45 am]

BILLING CODE 4310-70-P